DEPARTMENT OF HOUSING AND URBAN DEVELOPMENT

[Docket No. FR-4730-N-10]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CRF part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Julie Jones-Conte, Headquarters, Department of the Army, Office of the Assistant Chief of Staff for Installation Management, Attn: DAIM-MD, Room 1E677, 600 Army Pentagon, Washington, DC 20310-0600; (703) 692-9223; DOT: Mr. Rugene Spruill, Space Management, SVC-140, Transportation Administrative Service Center, Department of Transportation 400 7th Street, SW Room 2310, Washington, DC 20590; (202) 366-4246; Energy: Mr. Tom Knox, Department of Energy, Office of Engineering & Construction Management, CR-80, Washington, DC 20585; (202) 586-8715; Navy: Mr. Charles C. Cocks, Director, Department of the Navy, Real Estate Policy Division, Naval Facilities Engineering Command, Washington Navy Yard, 1322 Patterson Ave., SE, Suite 1000, Washington, DC 20374-5065; (202) 685-9200; VA: Ms. Amelia McLellan, Director, Real Property Service, (183C), Department of Veterans Affairs, 810 Vermont Avenue, NW. Room 419, Washington, DC 20420; (202) 565-5941; (These are not toll-free numbers).

Dated: February 28, 2002.
Mark R. Johnston,
Deputy Director, Office of Special Needs Assistance Programs.

Title V, Federal Surplus Property Program Federal Register Report for 3/8/02

Suitable/Available Properties

Buildings (by State)

Arizona

Bldg. 44414

Fort Huachuca

Sierra Vista Co: Cochise AZ 85635-

Landholding Agency: Army

Property Number: 21200210030

Status: Excess

Comment: 2 bdrm fourplex, 1,181 sq. ft. each, presence of asbestos/lead paint, most recent use—housing, off-site use only

Hawaii

Storage Shed

Pearl Harbor

505 Borie St.

Honolulu Co: HI 96818-

Landholding Agency: Navy

Property Number: 77200210076

Status: Excess

Comment: 130 sq. ft., possible asbestos/lead paint, off-site use only

Office/Conf. Bldg.

Pearl Harbor

505 Borie St.

Honolulu Co: HI 96818-

Landholding Agency: Navy

Property Number: 77200210077

Status: Excess

Comment: 2249 sq. ft., possible asbestos/lead paint, off-site use only

Living Quarters

Pearl Harbor

505 Borie St.

Honolulu Co: HI 96818-

Landholding Agency: Navy

Property Number: 77200210078

Status: Excess

Comment: 2960 sq. ft., possible asbestos/lead paint, off-site use only

Storage Bldg.

Pearl Harbor

505 Borie St.

Honolulu Co: HI 96818-

Landholding Agency: Navy

Property Number: 77200210079

Status: Excess

Comment: 306 sq. ft., public toilet with storage, possible asbestos/lead paint, off-site use only

Indiana

Bldg. 105, VAMC

East 38th Street

Marion Co: Grant IN 46952-

Landholding Agency: VA

Property Number: 97199230006

Status: Excess

Comment: 310 sq. ft., 1 story stone structure, no sanitary or heating facilities, Natl Register of Historic Places

Bldg. 140, VAMC

East 38th Street

Marion Co: Grant IN 46952-

Landholding Agency: VA

Property Number: 97199230007

Status: Excess

Comment: 60 sq. ft., concrete block bldg., most recent use—trash house

Bldg. 7

VA Northern Indiana Health Care System

Marion Campus, 1700 East 38th Street

Marion Co: Grant IN 46953-

Landholding Agency: VA

Property Number: 97199810001

Status: Underutilized

Comment: 16,864 sq. ft., presence of asbestos, most recent use—psychiatric ward, National Register of Historic Places

Bldg. 10

VA Northern Indiana Health Care System

Marion Campus, 1700 East 38th Street

Marion Co: Grant IN 46953-

Landholding Agency: VA

Property Number: 97199810002

Status: Underutilized

Comment: 16,361 sq. ft., presence of asbestos, most recent use—psychiatric ward, National Register of Historic Places

Bldg. 11

VA Northern Indiana Health Care System

Marion Campus, 1700 East 38th Street

Marion Co: Grant IN 46953-

Landholding Agency: VA

Property Number: 97199810003

Status: Underutilized

Comment: 16,361 sq. ft., presence of asbestos, most recent use—psychiatric ward, National Register of Historic Places

Bldg. 18

VA Northern Indiana Health Care System

Marion Campus, 1700 East 38th Street

Marion Co: Grant IN 46953-

Landholding Agency: VA

Property Number: 97199810004

Status: Underutilized

Comment: 13,802 sq. ft., presence of asbestos, most recent use—psychiatric ward, National Register of Historic Places

Bldg. 25

VA Northern Indiana Health Care System

Marion Campus, 1700 East 38th Street

Marion Co: Grant IN 46953-

Landholding Agency: VA

Property Number: 97199810005

Status: Unutilized

Comment: 32,892 sq. ft., presence of asbestos, most recent use—psychiatric ward, National Register of Historic Places

Massachusetts

Bldg. 76

Army Soldier Systems Center

Natick Co: Middlesex MA 01760-

Landholding Agency: Army

Property Number: 21200210037

Status: Unutilized

Comment: 1000 sq. ft., most recent use—storage, off-site use only

New York

Bldgs. T-401, T-403

Fort Drum

Ft. Drum Co: Jefferson NY 13602-

Landholding Agency: Army

Property Number: 21200210042

Status: Unutilized

Comment: 2305/2284 sq. ft., needs repair, most recent use—battalion hq bldg., off-site use only

Bldgs. T-404, T-406, T-407

Fort Drum

Ft. Drum Co: Jefferson NY 13602-

Landholding Agency: Army

Property Number: 21200210043

Status: Unutilized

Comment: 2000/1144 sq. ft., needs repair, most recent use—Co Hq Bldg., off-site use only

Bldg. T-430

Fort Drum

Ft. Drum Co: Jefferson NY 13602-

Landholding Agency: Army

Property Number: 21200210044

Status: Unutilized

Comment: 2731 sq. ft., needs repair, most recent use—Co Hq Bldg., off-site use only

4 Bldgs.

Fort Drum

T-431, T-432, T-433, T-434

Ft. Drum Co: Jefferson NY 13602-

Landholding Agency: Army

Property Number: 21200210045

Status: Unutilized

Comment: 1144 sq. ft., needs repair, most recent use—Co Hq Bldg., off-site use only

Bldg. T-435

Fort Drum

Ft. Drum Co: Jefferson NY 13602-

Landholding Agency: Army

Property Number: 21200210046

Status: Unutilized

Comment: 2731 sq. ft., needs repair, most recent use—Co Hq Bldg., off-site use only

Bldgs. T-437, T-438

Fort Drum

Ft. Drum Co: Jefferson NY 13602-

Landholding Agency: Army

Property Number: 21200210047

Status: Unutilized

Comment: 1144 sq. ft., needs repair, most recent use—Co Hq Bldg., off-site use only

Bldgs. T-439, T-460

Fort Drum

Ft. Drum Co: Jefferson NY 13602-

Landholding Agency: Army

Property Number: 21200210048

Status: Unutilized

Comment: 2588/2734 sq. ft., needs repair, most recent use—Co Hq Bldg., off-site use only

4 Bldgs.

Fort Drum

T-461, T-462, T-463, T-464

Ft. Drum Co: Jefferson NY 13602-

Landholding Agency: Army

Property Number: 21200210049

Status: Unutilized

Comment: 1144 sq. ft., needs repair, most recent use—Co Hq Bldg., off-site use only

Bldg. T-465

Fort Drum

Ft. Drum Co: Jefferson NY 13602-

Landholding Agency: Army

Property Number: 21200210050

Status: Unutilized

Comment: 2734 sq. ft., needs repair, most recent use—Co Hq Bldg., off-site use only

Bldg. T-405, T-408

Fort Drum

Ft. Drum Co: Jefferson NY 13602-

Landholding Agency: Army

Property Number: 21200210051

Status: Unutilized

Comment: 1296 sq. ft., needs repair, most recent use—storage, off-site use only

6 Bldgs.

Fort Drum

T-410, T-411, T-412, T-416, T-417, T-418

Ft. Drum Co: Jefferson NY 13602-

Landholding Agency: Army

Property Number: 21200210052

Status: Unutilized

Comment: 4720 sq. ft., needs repair, most recent use—enlisted barracks AN TR, off-site use only

Bldg. T-421, T-422

Fort Drum

Ft. Drum Co: Jefferson NY 13602-

Landholding Agency: Army

Property Number: 21200210053

Status: Unutilized

Comment: 2510 sq. ft., needs repair, most recent use—enlisted barracks AN TR, off-site use only

Bldgs. T-423, T424

Fort Drum

Ft. Drum Co: Jefferson NY 13602-

Landholding Agency: Army

Property Number: 21200210054

Status: Unutilized

Comment: 4720 sq. ft., needs repair, most recent use—enlisted barracks AN TR, off-site use only

7 Bldgs.

Fort Drum

T-441, T-442, T-443, T-444, T-446-T-448

Ft. Drum Co: Jefferson NY 13602-

Landholding Agency: Army

Property Number: 21200210055

Status: Unutilized

Comment: 4720 sq. ft., needs repair, most recent use—enlisted barracks AN TR, off-site use only

6 Bldgs.

Fort Drum

T-451, T-452, T-453, T-454, T-456, T-458

Ft. Drum Co: Jefferson NY 13602-

Landholding Agency: Army

Property Number: 21200210056

Status: Unutilized

Comment: 4720 sq. ft., needs repair, most recent use—enlisted barracks AN TR, off-site use only

5 Bldgs.

Fort Drum

T-471, T-472, T-473, T-474, T-477

Ft. Drum Co: Jefferson NY 13602-

Landholding Agency: Army

Property Number: 21200210057

Status: Unutilized

Comment: 4720 sq. ft., needs repair, most recent use—enlisted barracks AN TR, off-site use only

Bldgs. T-420, T-445, T-470

Fort Drum

Ft. Drum Co: Jefferson NY 13602-

Landholding Agency: Army

Property Number: 21200210058

Status: Unutilized

Comment: 2510 sq. ft., needs repair, most recent use—dining facility, off-site use only

Bldgs. T-440, T-450

Fort Drum

Ft. Drum Co: Jefferson NY 13602-

Landholding Agency: Army

Property Number: 21200210059

Status: Unutilized

Comment: 2360 sq. ft., needs repair, most recent use—dining facility, off-site use only

Bldg. T-478

Fort Drum

Ft. Drum Co: Jefferson NY 13602-

Landholding Agency: Army

Property Number: 21200210060

Status: Unutilized

Comment: 4720 sq. ft., needs repair, most recent use—classroom, off-site use only

Ohio

Quarters 107

Defense Supply Center

Columbus Co: Franklin OH 43216-5000

Landholding Agency: Army

Property Number: 21200210038

Status: Unutilized

Comment: 1490 sq. ft., needs major repairs, presence of lead paint, most recent use—residence, off-site use only

Pennsylvania

Bldg. 3, VAMC

1700 South Lincoln Avenue

Lebanon Co: Lebanon PA 17042-

Landholding Agency: VA

Property Number: 97199230012

Status: Underutilized

Comment: portion of bldg. (4046 sq. ft.), most recent use—storage, second floor—lacks elevator access

Wisconsin

Bldg. 237

Fort McCoy

Ft. McCoy Co: Monroe WI 54656-5136

Landholding Agency: Army

Property Number: 21200210039

Status: Unutilized

Comment: 4986 sq. ft., needs major repair, presence of asbestos, most recent use—storage, off-site use only

Bldg. 752

Fort McCoy

Ft. McCoy Co: Monroe WI 54656-5136

Landholding Agency: Army

Property Number: 21200210040

Status: Unutilized

Comment: 3663 sq. ft., needs major repair, presence of asbestos, most recent use—storage, off-site use only

Bldg. 2183

Fort McCoy

Ft. McCoy Co: Monroe WI 54656-5136

Landholding Agency: Army

Property Number: 21200210041

Status: Unutilized

Comment: 693 sq. ft., needs major repair, presence of asbestos, most recent use—heat plant bldg., off-site use only

Bldg. 8

VA Medical Center

County Highway E

Tomah Co: Monroe WI 54660-

Landholding Agency: VA

Property Number: 97199010056

Status: Underutilized

Comment: 2200 sq. ft., 2 story wood frame, possible asbestos, potential utilities, structural deficiencies, needs rehab

Land (by State)

Alabama

VA Medical Center

VAMC

Tuskegee Co: Macon AL 36083-

Landholding Agency: VA

Property Number: 97199010053

Status: Underutilized

Comment: 40 acres, buffer to VA Medical Center, potential utilities, undeveloped

California

Land

4150 Clement Street

San Francisco Co: San Francisco CA 94121-

Landholding Agency: VA

Property Number: 97199240001

Status: Underutilized

Comment: 4 acres; landslide area

Iowa

40.66 acres

VA Medical Center

1515 West Pleasant St.

Knoxville Co: Marion IA 50138-

Landholding Agency: VA

Property Number: 97199740002

Status: Underutilized

Comment: golf course, easement requirements

Maryland

VA Medical Center

9500 North Point Road

Fort Howard Co: Baltimore MD 21052-

Landholding Agency: VA

Property Number: 97199010020

Status: Underutilized

Comment: Approx. 10 acres, wetland and periodically floods, most recent use—dump site for leaves

Texas

Land

Olin E. Teague Veterans Center

1901 South 1st Street

Temple Co: Bell TX 76504-

Landholding Agency: VA

Property Number: 97199010079

Status: Underutilized

Comment: 13 acres, portion formerly landfill, portion near flammable materials, railroad crosses property, potential utilities

Wisconsin

VA Medical Center

County Highway E

Tomah Co: Monroe WI 54660-

Landholding Agency: VA

Property Number: 97199010054

Status: Underutilized

Comment: 12.4 acres, serves as buffer between center and private property, no utilities

Suitable/Unavailable Properties

Buildings (by State)

Alabama

Bldgs. 1001-1006, 1106-1107

Fort Rucker

Ft. Rucker Co: Dale AL 36362-5138

Landholding Agency: Army

Property Number: 21200210027

Status: Unutilized

Comment: approx. 9000 sq. ft., poor condition, lead paint present, most recent use—warehouses, off-site use only

7 Bldgs.

Fort Rucker

116, 512, 3721, 3903, 1114, 1405A, 1423

Ft. Rucker Co: Dale AL 36362-5138

Landholding Agency: Army

Property Number: 21200210028

Status: Unutilized

Comment: various sq. ft., poor condition, presence of asbestos/lead paint, most recent use—admin., off-site use only

Bldgs. 1102, 1104, 6021

Fort Rucker

Ft. Rucker Co: Dale AL 36362-5138

Landholding Agency: Army

Property Number: 21200210029

Status: Unutilized

Comment: various sq. ft., need rehab, presence of asbestos/lead paint, most recent use—heat plant bldgs., off-site use only

Georgia

Bldg. 20802

Fort Gordon

Ft. Gordon Co: Richmond GA 30905-

Landholding Agency: Army

Property Number: 21200210078

Status: Unutilized

Comment: 740 sq. ft., needs repair, possible asbestos/lead paint, most recent use—storage, off-site, use only

Kansas

Bldg. P-469

Fort Leavenworth

Leavenworth Co: KS 66027-

Landholding Agency: Army

Property Number: 21200210031

Status: Unutilized

Comment: 625 sq. ft., most recent use—storage, off-site use only

Bldg. S-471

Fort Leavenworth

Leavenworth Co: KS 66027-

Landholding Agency: Army

Property Number: 21200210032

Status: Unutilized

Comment: 4535 sq. ft., most recent use—repair shop, off-site use only

Bldg. P-485

Fort Leavenworth

Leavenworth Co: KS 66027-

Landholding Agency: Army

Property Number: 21200210033

Status: Unutilized

Comment: 2006 sq. ft., most recent use—instructional, off-site use only

Bldg. S-486

Fort Leavenworth

Leavenworth Co: KS 66027-

Landholding Agency: Army

Property Number: 21200210034

Status: Unutilized

Comment: 960 sq. ft., most recent use—instructional, off-site use only

Bldg. S-496

Fort Leavenworth

Leavenworth Co: KS 66027-

Landholding Agency: Army

Property Number: 21200210035

Status: Unutilized

Comment: 7134 sq. ft., most recent use—vocational, off-site use only

Montana

VA MT Healthcare

210 S. Winchester

Miles City Co: Custer MT 59301-

Landholding Agency: VA

Property Number: 97200030001

Status: Underutilized

Comment: 18 buildings, total sq. ft. = 123,851, presence of asbestos, most recent use—clinic/office/food production

Wisconsin

Bldg. 2

VA Medical Center

500 West National Ave.

Milwaukee WI 53295-

Landholding Agency: VA

Property Number: 97199830002

Status: Underutilized

Comment: 133,730 sq. ft., needs rehab, presence of asbestos/lead paint, most recent use—storage

Land (by State)

Iowa

38 acres

VA Medical Center

1515 West Pleasant St.

Knoxville Co: Marion IA 50138-

Landholding Agency: VA

Property Number: 97199740001

Status: Unutilized

Comment: golf course

Michigan

VA Medical Center

5500 Armstrong Road

Battle Creek Co: Calhoun MI 49016-

Landholding Agency: VA

Property Number: 97199010015

Status: Underutilized

Comment: 20 acres, used as exercise trails and storage areas, potential utilities.

New York

VA Medical Center

Fort Hill Avenue

Canandaigua Co: Ontario NY 14424-

Landholding Agency: VA

Property Number: 97199010017

Status: Underutilized

Comment: 27.5 acres, used for school ballfield and parking, existing utilities easements, portion leased.

Pennsylvania

VA Medical Center

New Castle Road

Butler Co: Butler PA 16001-

Landholding Agency: VA

Property Number: 97199010016

Status: Underutilized

Comment: Approx. 9.29 acres, used for patient recreation, potential utilities.

Land No. 645

VA. Medical Center

Highland Drive

Pittsburgh Co: Allegheny PA 15206-

Location: Between Campania and Wiltsie Streets.

Landholding Agency: VA

Property Number: 97199010080

Status: Unutilized

Comment: 90.3 acres, heavily wooded, property includes dump area and numerous site storm drain outfalls.

Land—34.16 acres

VA Medical Center

1400 Black Horse Hill Road

Coatesville Co: Chester PA 19320-

Landholding Agency: VA

Property Number: 97199340001

Status: Underutilized

Comment: 34.16 acres, open field, most recent use—recreation/buffer

Suitable/To Be Excessed

Buildings (by State)

Massachusetts

Cuttyhunk Boathouse

South Shore of Cuttyhunk

Pond

Gosnold Co: Dukes MA 02713-

Landholding Agency: DOT

Property Number: 87199310001

Status: Unutilized

Comment: 2700 sq. ft., wood frame, one story, needs rehab, limited utilities, off-site use only

Nauset Beach Light

Nauset Beach Co: Barnstable MA

Landholding Agency: DOT

Property Number: 87199420001

Status: Unutilized

Comment: 48 foot tower, cylindrical cast iron, most recent use—aid to navigation

Light Tower, Highland Light

Near Rt. 6, 9 miles south of

Race Point

North Truro Co: Barnstable MA 02652-

Landholding Agency: DOT

Property Number: 87199430005

Status: Excess

Comment: 66 ft. tower, 14′9″ diameter, brick structure, scheduled to be vacated 9/94

Keepers Dwelling

Highland Light

Near Rt. 6, 9 miles south of Race Point

North Truro Co: Barnstable MA 02652-

Landholding Agency: DOT

Property Number: 87199430006

Status: Excess

Comment: 1160 sq. ft., 2-story wood frame, attached to light tower scheduled to be vacated 9/94

Duplex Housing Unit

Highland Light

Near Rt. 6, 9 miles south of Race Point

North Truro Co: Barnstable MA 02652-

Landholding Agency: DOT

Property Number: 87199430007

Status: Excess

Comment: 2 living units, 930 sq. ft. each, 1-story each, located on eroding ocean bluff, scheduled to be vacated 9/94

Nahant Towers

Nahant Co: Essex MA

Landholding Agency: DOT

Property Number: 87199530001

Status: Unutilized

Comment: 196 sq. ft., 8-story observation tower

Land (by State)

Alaska

Gibson Cove Tract

Kodiak Co: AK 99619-

Landholding Agency: DOT

Property Number: 87199920001

Status: Unutilized

Comment: 37.55 acres, undeveloped land

Unsuitable Properties

Buildings (by State)

Alabama

Dwelling A

USCG Mobile Pt. Station

Ft. Morgan

Gulfshores Co: Baldwin AL 36542-

Landholding Agency: DOT

Property Number: 87199120001

Status: Excess

Reason: Floodway

Dwelling B

USCG Mobile Pt. Station

Ft. Morgan

Gulfshores Co: Baldwin AL 36542-

Landholding Agency: DOT

Property Number: 87199120002

Status: Excess

Reason: Floodway

Oil House

USCG Mobile Pt. Station

Ft. Morgan

Gulfshores Co: Baldwin AL 36542-

Landholding Agency: DOT

Property Number: 87199120003

Status: Excess

Reason: Floodway

Garage

USCG Mobile Pt. Station

Ft. Morgan

Gulfshores Co: Baldwin AL 36542-

Landholding Agency: DOT

Property Number: 87199120004

Status: Excess

Reason: Floodway

Shop Building

USCG Mobile Pt. Station

Ft. Morgan

Gulfshores Co: Baldwin AL 36542-

Landholding Agency: DOT

Property Number: 87199120005

Status: Excess

Reason: Floodway

Bldg. 7

VA Medical Center

Tuskegee Co: Macon AL 36083-

Landholding Agency: VA

Property Number: 97199730001

Status: Underutilized

Reason: Secured Area

Bldg. 8

VA Medical Center

Tuskegee Co: Macon AL 36083-

Landholding Agency: VA

Property Number: 97199730002

Status: Underutilized

Reason: Secured Area

Alaska

Bldg. 18

USCG Support Center

Kodiak Co: Kodiak Island AD 99619-5000

Landholding Agency: DOT

Property Number: 87199210132

Status: Excess

Reasons: Within airport runway clear zone; Secured Area

GSA Number: U-ALAS-655A

Boathouse

Coast Guard Station

Ketchikan

Ketchikan Co: AK 99901-

Landholding Agency: DOT

Property Number: 87200020001

Status: Unutilized

Reasons: Within 2000 ft. of flammable or explosive material; Secured Area

Bldg. 23

USCG Integrated Support

Command

Kodiak Co: Kodiak Island AK 99619-

Landholding Agency: DOT

Property Number: 87200110009

Status: Excess

Reason: Extensive deterioration

Bldg. 25

USCG Integrated Support

Command

Kodiak Co: Kodiak Island AK 99619-

Landholding Agency: DOT

Property Number: 87200110010

Status: Excess

Reason: Extensive deterioration

Bldg. 52

Integrated Support Command

Kodiak Co: AK 99615-

Landholding Agency: DOT

Property Number: 87200110012

Status: Unutilized

Reason: Extensive deterioration

Barracks

LORAN Station

Sitkinak Island Co: AK

Landholding Agency: DOT

Property Number: 87200120007

Status: Unutilized

Reasons: Within 2000 ft. of flammable or explosive material; Floodway; Extensive deterioration

Incinerator Bldg.

LORAN Station

Sitkinak Island Co: AK

Landholding Agency: DOT

Property Number: 87200120008

Status: Unutilized

Reasons: Within 2000 ft. of flammable or explosive material; Floodway; Extensive deterioration

Signal/Power Bldg.

LORAN Station

Sitkinak Island Co: AK

Landholding Agency: DOT

Property Number: 87200120009

Status: Unutilized

Reasons: Within 2000 ft. of flammable or explosive material; Floodway; Extensive deterioration

Transmitter Bldg.

LORAN Station

Sitkinak Island Co: AK

Landholding Agency: DOT

Property Number: 87200120010

Status: Unutilized

Reasons: Within 2000 ft. of flammable or explosive material; Floodway; Extensive deterioration

Waste Water Treatment Bldg.

LORAN Station

Sitkinak Island Co: AK

Landholding Agency: DOT

Property Number: 87200120011

Status: Unutilized

Reasons: Within 2000 ft. of flammable or explosive material; Floodway; Extensive deterioration

Bldg. V001

Point Higgins

Ketchikan Co: AK 99901-

Landholding Agency: DOT

Property Number: 87200140001

Status: Excess

Reasons: Secured Area; Extensive deterioration

Bldg. T003, T004

Point Higgins

Ketchikan Co: AK 99901-

Landholding Agency: DOT

Property Number: 87200140002

Status: Excess

Reasons: Secured Area; Extensive deterioration

Bldg. B001

Point Higgins

Ketchikan Co: AK 99901-

Landholding Agency: DOT

Property Number: 87200140003

Status: Excess

Reasons: Secured Area; Extensive deterioration

Bldg. B002

Point Higgins

Ketchikan Co: AK 99901-

Landholding Agency: DOT

Property Number: 87200140004

Status: Excess

Reasons: Secured Area; Extensive deterioration

Bldg. B003

Point Higgins

Ketchikan Co: AK 99901-

Landholding Agency: DOT

Property Number: 87200140005

Status: Excess

Reasons: Secured Area; Extensive deterioration

Bldg. B004

Point Higgins

Ketchikan Co: AK 99901-

Landholding Agency: DOT

Property Number: 87200140006

Status: Excess

Reasons: Secured Area

Bldg. B006

Point Higgins

Ketchikan Co: AK 99901-

Landholding Agency: DOT

Property Number: 87200140007

Status: Excess

Reasons: Secured Area; Extensive deterioration

Bldg. B008

Point Higgins

Ketchikan Co: AK 99901-

Landholding Agency: DOT

Property Number: 87200140008

Status: Excess

Reasons: Secured Area; Extensive deterioration

Bldg. B009

Point Higgins

Ketchikan Co: AK 99901-

Landholding Agency: DOT

Property Number: 87200140009

Status: Excess

Reasons: Secured Area; Extensive deterioration

Bldg. B011

Point Higgins

Ketchikan Co: AK 99901-

Landholding Agency: DOT

Property Number: 87200140010

Status: Excess

Reasons: Secured Area; Extensive deterioration

Bldg. B012

Point Higgins

Ketchikan Co: AK 99901-

Landholding Agency: DOT

Property Number: 87200140011

Status: Excess

Reasons: Secured Area; Extensive deterioration

Bldg. B000

Point Higgins

Ketchikan Co: AK 99901-

Landholding Agency: DOT

Property Number: 87200140012

Status: Excess

Reason: Extensive deterioration

California

10 Bldg.

USCG Station Humboldt Bay

Samoa Co: Humboldt CA 95564-9999

Landholding Agency: DOT

Property Number: 87199440027

Status: Excess

Reason: Extensive deterioration

Comment: Land to be relinquished to BLM (Public Domain Land)

Alemeda Facility

350 S. Santa Fe Drive

Denver Co: Denver CO 80223-

Landholding Agency: DOT

Property Number: 87199010014

Status: Unutilized

Reason: Other environmental

Comment: contamination

Connecticut

Falkner Island Light

U.S. Coast Guard

Guilford Co: New Haven CT 06512-

Landholding Agency: DOT

Property Number: 87199240031

Status: Unutilized

Comment: Floodway

Florida

Bldg. #3, Recreation Cottage

USCG Station

Marathon Co: Monroe FL 33050-

Landholding Agency: DOT

Property Number: 871999210008

Status: Unutilized

Reasons: Floodway; Secured Area

Exchange Building

St. Petersburg Co: Pinellas FL 33701-

Landholding Agency: DOT

Property Number: 87199410004

Status: Unutilized

Reasons: Floodway; Secured Area

Bldg. 103, Trumbo Point

Key West Co: Monroe FL 33040-

Landholding Agency: DOT

Property Number: 87199230001

Status: Unutilized

Reasons: Flodway; Secured Area

Exchange Building

St. Petersburg Co: Pinellas FL 33701-

Landholding Agency: DOT

Property Number: 87199410004

Status: Unutilized

Reason: Floodway

9988 Keepers Quarters A

Cape San Blas

Port St. Joe Co: Gulf FL

Landholding Agency: DOT

Property Number: 87199440009

Status: Underutilized

Reasons: Floodway; Secured Area

9989 Keepers Quarters B

Cape San Blas

Port St. Joe Co: Gulf FL

Landholding Agency: DOT

Property Number: 87199440010

Status: Underutilized

Reasons: Floodway; Secured Area

9990 Bldg.

Cape San Blas

Port St. Joe Co: Gulf FL

Landholding Agency: DOT

Property Number: 87199440011

Status: Underutilized

Reasons: Floodway; Secured Area

9991 Plant Bldg.

Cape San Blas

Port St. Joe Co: Gulf FL

Landholding Agency: DOT

Property Number: 87199440012

Status: Underutilized

Reasons: Floodway; Secured Area

9992 Shop Bldg.

Cape San Blas

Port St. Joe Co: Gulf FL

Landholding Agency: DOT

Property Number: 87199440013

Status: Underutilized

Reasons: Floodway; Secured Areas

9993 Shop Bldg.

Cape San Blas

Port St. Joe Co: Gulf FL

Landholding Agency: DOT

Property Number: 87199440014

Status: Underutilized

Reasons: Floodway; Secured Areas

9994 Water Pump Bldg.

Cape San Blas

Port St. Joe Co: Gulf FL

Landholding Agency: DOT

Property Number: 87199440015

Status: Underutilized

Reasons: Floodway; Secured Areas

Storage Bldg.

Cape San Blas

Port St. Joe Co: Gulf FL

Landholding Agency: DOT

Property Number: 87199440016

Status: Underutilized

Reasons: Floodway; Secured Areas

9999 Shop Bldg.

Cape San Blas

Port St. Joe Co: Gulf FL

Landholding Agency: DOT

Property Number: 87199440017

Status: Underutilized

Reasons: Floodway; Secured Areas

3 Bldgs, and Land

Peanut Island Station

Riveria Beach Co: Palm Beach FL 33419-0909

Landholding Agency: DOT

Property Number: 87199510009

Status: Underutilized

Reasons: Floodway; Secured Areas

Cape St. George Lighthouse

Co: Franklin FL 32328-

Port St. Joe Co: Gulf FL

Landholding Agency: DOT

Property Number: 87199640002

Status: Underutilized

Reasons: Floodway; Secured Areas

Maint/Carpentry Shop

USCG Station

St. Petersburg Co: Pinellas FL 33701-

Landholding Agency: DOT

Property Number: 8720012001

Status: Excess

Reasons: Secured Area; Extensive deterioration

Georgia

Coast Guard Station

St. Simons Island

Co: Glynn GA 31522-0577

Landholding Agency: DOT

Property Number: 87199540002

Status: Underutilized

Reasons: Extensive deterioration

Illinois

Calumet Harbor Station

U.S. Coast Guard

Chicago Co: Cook IL

Landholding Agency: DOT

Property Number: 87199310005

Status: Excess

Reason: Secured Area

Indiana

Bldg. 21, VA Medical Center

East 38th Street

Marion Co: Grant IN 46952-

Landholding Agency: VA

Property Number: 97199230001

Status: Excess

Reason: Extensive deterioration

Bldg. 22, VA Medical Center

East 38th Street

Marion Co: Grant IN 46951-

Landholding Agency: VA

Property Number: 97199230002

Status: Excess

Reason: Extensive deterioration

Bldg. 62, VA Medical Center

East 38th Street

Marion Co: Grant IN 46952-

Landholding Agency: VA

Property Number: 97199230003

Status: Excess

Reason: Extensive deterioration

Maine

Supply Bldg., Coast Guard

Southwest Harbor

Southwest Harbor Co: Hancock ME 04679-5000

Landholding Agency: DOT

Property Number: 87199240005

Status: Unutilized

Reason: Floodway

Base Exchange, Coast Guard

Southwest Harbor

Southwest Harbor Co: Hancock ME 04679-5000

Landholding Agency: DOT

Property Number: 87199240006

Status: Unutilized

Reason: Floodway

Engineering Shop, Coast Guard

Southwest Harbor

Southwest Harbor Co: Hancock ME 04779-5000

Landholding Agency: DOT

Property Number: 87199240007

Status: Unutilized

Reason: Floodway

Storage Bldg., Coast Guard

Southwest Harbor

Southwest Harbor Co: Hancock ME 04679-5000

Landholding Agency: DOT

Property Number: 87199240008

Status: Unutilized

Reason: Floodway

Squirrel Point Light

U.S. Coast Guard

Phippsburg Co: Sayadahoc ME 04530-

Landholding Agency: DOT

Property Number: 87199240032

Status: Unutilized

Reason: Floodway

Keepers Dwelling

Heron Neck Light, U.S. Coast Guard

Vinalhaven Co: Knox ME 04841-

Landholding Agency: DOT

Property Number: 87199240035

Status: Unutilized

Reason: Extensive deterioration

Fort Papham Light

Phippsburg Co: Sagadahoc ME 04562-

Landholding Agency: DOT

Property Number: 87199320024

Status: Unutilized

Reason: Extensive deterioration

Nash Island Light

U.S. Coast Guard

Addison Co: Washington ME 04606-

Landholding Agency: DOT

Property Number: 87199420005

Status: Unutilized

Reason: Inaccessible

Bldg.—South Portland Base

U.S. Coast Guard

S. Portland Co: Cumberland ME 04106-

Landholding Agency: DOT

Property Number: 87199420006

Status: Unutilized

Reason: Secured Area

Garage—Boothbay Harbor Stat.

Boothbay Harbor Co: Lincoln ME 04538-

Landholding Agency: DOT

Property Number: 87199430001

Status: Unutilized

Reason: Secured Area

Maryland

Bldgs. 38-39, 41, 43-46, 56

U.S. Coast Guard Yard

Baltimore, MD 21226-

Landholding Agency: DOT

Property Number: 87199540005

Status: Unutilized

Reasons: Within 2000 ft. of flammable or explosive material; Secured Area; Extensive deterioration

Bldg. 53

U.S. Coast Guard Yard

Baltimore, MD 21226-

Landholding Agency: DOT

Property Number: 87199540006

Status: Unutilized

Reasons: Within 2000 ft. of flammable or explosive material; Secured Area; Extensive deterioration

Bldg. 6

U.S. Coast Guard Yard, 2401

Hawkins Point Rd.

Baltimore, MD 21226-1797

Landholding Agency: DOT

Property Number: 87199620001

Status: Excess

Reasons: Within 2000 ft. of flammable or explosive material; Secured Area

Bldg. 59

U.S. Coast Guard Yard, 2401

Hawkins Point Rd.

Baltimore, MD 21226-1797

Landholding Agency: DOT

Property Number: 87199620002

Status: Excess

Reasons: Within 2000 ft. of flammable or explosive material; Secured Area

5 Bldgs.

USCG Yard

#9, 21, 23, 52, 57

Baltimore Co: MD 21226-

Landholding Agency: DOT

Property Number: 87200120002

Status: Unutilized

Reason: Extensive deterioration

Massachusetts

Bldg. 4, USCG Support Center

Commercial Street

Boston Co: Suffolk MA 02203-

Landholding Agency: DOT

Property Number: 87199240001

Status: Underutilized

Reason: Secured Area

Eastern Point Light

U.S. Coast Guard

Gloucester Co: Essex MA 01930-

Landholding Agency: DOT

Property Number: 87199240029

Status: Unutilized

Reasons: Floodway; Secured Area

Storage Shed

Highland Light

N. Truro Co: Barnstable MA 02652-

Location: DeSoto Johnson KS66018-

Landholding Agency: DOT

Property Number: 87199430004

Status: Unutilized

Reason: Extensive deterioration

Westview Street Wells

Lexington Co: MA 02173-

Landholding Agency: VA

Property Number: 97199920001

Status: Unutilized

Reason: Extensive deterioration

Michigan

Boathouse

Coast Guard Station

East Tawas Co: Iosco MI 48730-

Landholding Agency: DOT

Property Number: 87200040003

Status: Unutilized

Reasons: Secured Area; Extensive deterioration

Storage Shed (OS2)

USCG Station

Port Huron Co: St. Clair MI 48060-

Landholding Agency: DOT

Property Number: 87200110036

Status: Unutilized

Reasons: Floodway; Secured Area

Station Bldg.

USCG Station

Manistee Co: MI 49660-

Landholding Agency: DOT

Property Number: 87200120003

Status: Unutilized

Reasons: Floodway; Secured Area

Garage Bldg.

USCG Station

Manistee Co: MI 49660-

Landholding Agency: DOT

Property Number: 87200120004

Status: Unutilized

Reasons: Floodway; Secured Area

Shed/Pump Bldg.

USCG Station

Manistee Co: MI 49660-

Landholding Agency: DOT

Property Number: 87200120005

Status: Unutilized

Reasons: Floodway; Secured Area

Storage Bldg.

USCG Station

Manistee Co: MI 49660-

Landholding Agency: DOT

Property Number: 87200120006

Status: Unutilized

Reasons: Floodway; Secured Area

Station/boathouse Bldg.

USCG Harbor Beach Station

Harbor Beach Co: Huron MI 48441-

Landholding Agency: DOT

Property Number: 87200130001

Status: Unutilized

Reasons: Floodway; Extensive deterioration

Calfac Building

Keweenaw Peninsula Waterway

Hancock Township Co: Houghton MI

Landholding Agency: DOT

Property Number: 87200140013

Status: Unutilized

Reason: Secured Area

Storage Bldg.

US Coast Guard Station

Essexville Co: Bay MI 48732-

Landholding Agency: DOT

Property Number: 87200210011

Status: Excess

Reason: Secured Area

Mississippi

Natchez Moorings

82 L.E. Berry Road

Natchez Co: Adams MS 39121-

Landholding Agency: DOT

Property Number: 87199340002

Status: Unutilized

Reason: Extensive deterioration

Bldg. 6, Boiler Plant

Biloxi VA Medical Center

Gulfport Co: Harrison MS 39531-

Landholding Agency: VA

Property Number: 97199410001

Status: Unutilized

Reason: Floodway

Bldg. 67

Biloxi VA Medical Center

Gulfport Co: Harrison MS 39531-

Landholding Agency: VA

Property Number: 97199410008

Status: Unutilized

Reason: Extensive deterioration

Bldg. 68

Biloxi VA Medical Center

Gulfport Co: Harrison MS 39531-

Landholding Agency: VA

Property Number: 97199410009

Status: Unutilized

Reason: Extensive deterioration

Piers and Wharf

Station Sandy Hook

Highlands Co: Monmouth NJ 07732-5000

Landholding Agency: DOT

Property Number: 87199240009

Status: Unutilized

Reasons: Secured Area; Extensive deterioration

Chapel Hill Front Range

Light Tower

Middletown Co: Monmouth NJ 07748-

Landholding Agency: DOT

Property Number: 87199440002

Status: Unutilized

Reason: Skeletal tower

Bldg. 103

U.S. Coast Guard Station

Sandy Hook

Middletown Co: Monmouth NJ 07737-

Landholding Agency: DOT

Property Number: 87199610002

Status: Unutilized

Reason: Secured Area

Ship Stg. Bldg.

USCG Training Center

Cape May Co: NJ 08204-5002

Landholding Agency: DOT

Property Number: 87200110018

Status: Excess

Reason: Secured Area

Exchange Whse

USCG Training Center

Cape May Co: NJ 08204-5002

Landholding Agency: DOT

Property Number: 87200110019

Status: Excess

Reason: Secured Area

Patrol Boat Bldg.

USCG Training Center

Cape May Co: NJ 08204-5002

Landholding Agency: DOT

Property Number: 87200110020

Status: Excess

Reason: Secured Area

Station Bldg.

USCG Training Center

Cape May Co: NJ 08204-5002

Landholding Agency: DOT

Property Number: 87200110021

Status: Excess

Reason: Secured Area

ANT Bldg.

USCG Training Center

Cape May Co: NJ 08204-5002

Landholding Agency: DOT

Property Number: 87200110022

Status: Excess

Reason: Secured Area

Quarters C

USCG Training Center

Cape May Co: NJ 08204-5002

Landholding Agency: DOT

Property Number: 87200120012

Status: Excess

Reason: Secured Area

Central Heating Plant

USCG Training Center

Cape May Co: NY 08204-5002

Landholding Agency: DOT

Property Number: 87200120013

Status: Excess

Reason: Secured Area

Hangar/Shop

USCG Training Center

Cape May Co: NY 08204-5002

Landholding Agency: DOT

Property Number: 87200120014

Status: Excess

Reason: Secured Area

New York

Bldg. 194

Brookhaven National Lab

Upton Co: Suffolk NY 11973-

Landholding Agency: Energy

Property Number: 41200210009

Status: Unutilized

Reason: Extensive deterioration

Bldg. 318

Brookhaven National Lab

Upton Co: Suffolk NY 11973-

Landholding Agency: Energy

Property Number: 41200210010

Status: Unutilized

Reason: Extensive deterioration

Bldg. 0426

Brookhaven National Lab

Upton Co: Suffolk NY 11973-

Landholding Agency: Energy

Property Number: 41200210011

Status: Unutilized

Reason: Extensive deterioration

Bldg. 960

Brookhaven National Lab

Upton Co: Suffolk NY 11973-

Landholding Agency: Energy

Property Number: 41200210012

Status: Unutilized

Reason: Extensive deterioration

Bldg. 962

Brookhaven National Lab

Upton Co: Suffolk NY 11973-

Landholding Agency: Energy

Property Number: 41200210013

Status: Unutilized

Reason: Extensive deterioration

2 Buildings

Ant Saugerties

Saugerties Co: Ulster NY 12477-

Landholding Agency: DOT

Property Number: 87199230005

Status: Unutilized

Reason: Extensive deterioration

Bldg. 606, Fort Totten

New York Co: Queens NY 11359-

Landholding Agency: DOT

Property Number: 87199240020

Status: Unutilized

Reason: Extensive deterioration

Bldg. 607, Fort Totten

New York Co: Queens NY 11359-

Landholding Agency: DOT

Property Number: 87199240021

Status: Unutilized

Reasons: Extensive deterioration; Secured Area

Bldg. 605, Fort Totten

New York Co: Queens NY 11359-

Landholding Agency: DOT

Property Number: 87199240022

Status: Unutilized

Reasons: Extensive deterioration; Secured Area

Eatons Neck Station

U.S. Coast Guard

Huntington Co: Suffolk NY 11743-

Landholding Agency: DOT

Property Number: 87199310003

Status: Unutilized

Reasons: Secured Area; Extensive deterioration

Bldg. 517, USCG Support Center

Governors Island Co: Manhattan NY 10004-

Landholding Agency: DOT

Property Number: 87199320025

Status: Unutilized

Reason: Secured Area

Bldg. 138

U.S. Coast Guard Support

Center

Governors Island Co: Manhattan NY 10004-

Landholding Agency: DOT

Property Number: 87199410003

Status: Unutilized

Reason: Secured Area

Bldg. 830

U.S. Coast Guard

Governors Island Co: Manhattan NY 10004-

Landholding Agency: DOT

Property Number: 87199420004

Status: Unutilized

Reason: Secured Area

Bldg. 8

Rosebank—Coast Guard

Housing

Staten Island Co: Richmond NY 10301-

Landholding Agency: DOT

Property Number: 87199530009

Status: Unutilized

Reason: Secured Area

Bldg. 7

Rosebank—Coast Guard

Housing

Staten Island Co: Richmond NY 10301-

Landholding Agency: DOT

Property Number: 87199530010

Status: Unutilized

Reasons: Secured Area; Extensive deterioration

Bldg. 222

Fort Wadsworth

Staten Island Co: Richmond NY 10305-

Landholding Agency: DOT

Property Number: 87199620003

Status: Unutilized

Reason: Secured Area

Bldg. 223

Fort Wadsworth

Staten Island Co: Richmond NY 10305-

Landholding Agency: DOT

Property Number: 87199620004

Status: Unutilized

Reason: Secured Area

Bldg. 205

Fort Wadsworth

Staten Island Co: Richmond NY 10305-

Landholding Agency: DOT

Property Number: 87199620005

Status: Unutilized

Reason: Secured Area

Bldg. 9

U.S. Coast Guard—Rosebank

Staten Island Co: Richmond NY 10301-

Landholding Agency: DOT

Property Number: 87199630027

Status: Excess

Reason: Secured Area

Bldg. 10

U.S. Coast Guard—Rosebank

Staten Island Co: Richmond NY 10301-

Landholding Agency: DOT

Property Number: 87199630028

Status: Excess

Reason: Secured Area

Bldg. 206, Rosebank

Staten Island Co: Richmond NY 10301-

Landholding Agency: DOT

Property Number: 87199630029

Status: Excess

Reason: Secured Area

Cottage

Coast Guard Station

Wellesley Island Co: Jefferson NY 13640-

Landholding Agency: DOT

Property Number: 8719940001

Status: Unutilized

Reasons: Secured Area; Extensive deterioration

Group Cape Hatteras

Boiler Plant

Buxton Co: Dare NC 27902-0604

Landholding Agency: DOT

Property Number: 8719920018

Status: Unutilized

Reason: Secured Area

Group Cape Hatteras

Bowling Alley

Buxon Co: Dare NC 27902-0604

Landholding Agency: DOT

Property Number: 8719920019

Status: Unutilized

Reason: Secured Area

Bldg. 54

Group Cape Hatteras

Buxton Co: Dare NC 27902-0604

Landholding Agency: DOT

Property Number: 87199340004

Status: Unutilized

Reason: Secured Area

Bldg. 83

Group Cape Hatteras

Buxton Co: Dare NC 27902-0604

Landholding Agency: DOT

Property number: 87199340005

Status: Unutilized

Reason: Secured Area

Water Tanks

Group Cape Hatteras

Buxton Co: Dare NC 27902-0604

Landholding Agency: DOT

Property number: 87199340006

Status: Unutilized

Reason: Secured Area

USCG Gentian (WLB 290)

Fort Macon State Park

Atlantic Beach Co: Carteret NC 27601-

Landholding Agency: DOT

Property number: 8719942007

Status: Excess

Reason: Secured Area

Unit #71

Buxton Annex, Cape Kendrick

Circle

Buxton Co: Dare NC 27920-

Landholding Agency: DOT

Property number: 87199530011

Status: Unutilized

Reason: Floodway

Unit #72

Buxton Annex, Cape Kendrick

Circle

Buxton Co: Dare NC 27920-

Landholding Agency: DOT

Property number: 87199530012

Status: Unutilized

Reason: Floodway

Unit #73

Buxton Annex, Cape Kendrick

Circle

Buxton Co: Dare NC 27920-

Landholding Agency: DOT

Property number: 87199530013

Status: Unutilized

Reason: Floodway

Unit #74

Buxton Annex, Cape Kendrick

Circle

Buxton Co: Dare NC 27920-

Landholding Agency: DOT

Property number: 87199530014

Status: Unutilized

Reason: Floodway

Unit #75

Buxton Annex, Cape Kendrick

Circle

Buxton Co: Dare NC 27920-

Landholding Agency: DOT

Property number: 87199530015

Status: Unutilized

Reason: Floodway

Unit #63

Buxton Annex, Anna May Court

Buxton Co: Dare NC 27920-

Landholding Agency: DOT

Property number: 87199530016

Status: Unutilized

Reason: Floodway

Unit #64

Buxton Annex, Anna May Court

Buxton Co: Dare NC 27920-

Landholding Agency: DOT

Property Number: 87199530017

Status: Unutilized

Reason: Floodway

Unit #76

Buxton Annex, Anna May Court

Buxton Co: Dare NC 27920-

Landholding Agency: DOT

Property Number: 87199530018

Status: Unutilized

Reason: Floodway

Unit #68

Buxton Annex, Anna May Court

Buxton Co: Dare NC 27920-

Landholding Agency: DOT

Property Number: 87199530019

Status: Unutilized

Reason: Floodway

Unit #69

Buxton Annex, Anna May Court

Buxton Co: Dare NC 27920-

Landholding Agency: DOT

Property Number: 87199530020

Status: Unutilized

Reason: Floodway

Unit #70

Buxton Annex, Anna May Court

Buxton Co: Dare NC 27920-

Landholding Agency: DOT

Property Number: 87199530021

Status: Unutilized

Reason: Floodway

Unit #77

Buxton Annex, Old Lighthouse Road

Buxton Co: Dare NC 27920-

Landholding Agency: DOT

Property Number: 87199530022

Status: Unutilized

Reason: Floodway

Unit #78

Buxton Annex, Old Lighthouse Road

Buxton Co: Dare NC 27920-

Landholding Agency: DOT

Property Number: 87199530023

Status: Unutilized

Reason: Floodway

Bldg. 53

Coast Guard Support Center

Elizabeth City Co: Pasquotank NC 27909-5006

Landholding Agency: DOT

Property Number: 87199630022

Status: Unutilized

Reason: Secured Area

Bldg. OV1 (033)

USCG Cape Hatteras

Buxton Co: Dare NC 27902-0604

Landholding Agency: DOT

Property Number: 87200210012

Status: Underutilized

Reason: Secured Area

Storage Bldg.

USCG Loran Station

Carolina Beach Co. New Hanover NC

Landholding Agency: DOT

Property Number: 87200210013

Status: Underutilized

Reason: Secured Area

MK Shed

USCG Loran Station

Carolina Beach Co. New Hanover NC

Landholding Agency: DOT

Property Number: 87200210014

Status: Underutilized

Reason: Secured Area

Bldg. 9

VA Medical Center

1100 Tunnel Road

Asheville Co: Buncombe NC 28805-

Landholding Agency: VA

Property Number: 97199010008

Status: Unutilized

Reason: Extensive deterioration

Ohio

Bldg. 116

VA Medical Center

Dayton Co: Montgomery OH 45428-

Landholding Agency: VA

Property Number: 97199920002

Status: Unutilized

Reason: Extensive deterioration

Bldg. 402

VA Medical Center

Dayton Co: Montgomery OH 45428-

Landholding Agency: VA

Property Number: 97199920004

Status: Unutilized

Reason: Extensive deterioration

Bldg. 105

VA Medical Center

Dayton Co: Montgomery OH 45428-

Landholding Agency: VA

Property Number: 97199920005

Status: Unutilized

Reason: Extensive deterioration

Oregon

Bldg. 8

USCG Tongue Point Moorings

Astoria Co: OR 97103-2099

Landholding Agency: DOT

Property Number: 87199910001

Status: Unutilized

Reason: Extensive deterioration

Duplex

Cape Blanco

Sixes Co: Curry OR 97465-

Landholding Agency: DOT

Property Number: 87199940002

Status: Unutilized

Reason: Extensive deterioration

Bldg. 5

Coast Guard Group

Astoria Co: OR 97103-

Landholding Agency: DOT

Property Number: 87200210015

Status: Underutilized

Reason: Secured Area

Pennsylvania

Bldg. 483

Naval Surface Warfare Center

Philadelphia Co: PA 19111-2

Landholding Agency: Navy

Property Number: 77200210082

Status: Excess

Reason: Within 2000 ft. of flammable or explosive material

Bldg. 530

Naval Surface Warfare Center

Philadelphia Co: PA 19112-

Landholding Agency: Navy

Property Number: 77200210083

Status: Excess

Reason: Within 2000 ft. of flammable or explosive material

Bldg. 615

Naval Surface Warfare Center

Philadelphia Co: PA 19112-

Landholding Agency: Navy

Property Number: 77200210084

Status: Excess

Reason: Within 2000 ft. of flammable or explosive material

Bldg. 618

Naval Surface Warfare Center

Philadelphia Co: PA 19112-

Landholding Agency: Navy

Property Number: 77200210085

Status: Excess

Reason: Within 2000 ft. of flammable or explosive material

Bldg. 743

Naval Surface Warfare Center

Philadelphia Co: PA 19112-

Landholding Agency: Navy

Property Number: 77200210086

Status: Excess

Reason: Within 2000 ft. of flammable or explosive material

Puerto Rico

NAFA Warehouse

U.S. Coast Guard Air Station

Borinquen

Aquadilla PR 00604-

Landholding Agency: DOT

Property Number: 87199310011

Status: Unutilized

Reason: Secured Area

Storage Equipment Bldg.

U.S. Coast Guard Air Station

Borinquen

Aquadilla PR 00604-

Landholding Agency: DOT

Property Number: 87199330001

Status: Unutilized

Reason: Secured Area

Bldg. 115

U.S. Coast Guard Base

San Juan PR 00902-2029

Landholding Agency: DOT

Property Number: 87199510001

Status: Unutilized

Reason: Secured Area

Bldg. 117

U.S. Coast Guard Base

San Juan PR 00902-2029

Landholding Agency: DOT

Property Number: 87199510002

Status: Unutilized

Reason: Secured Area

Bldg. 118

U.S. Coast Guard Base

San Juan PR 00902-2029

Landholding Agency: DOT

Property Number: 87199510003

Status: Unutilized

Reason: Secured Area

Bldg. 119

U.S. Coast Guard Base

San Juan PR 00902-2029

Landholding Agency: DOT

Property Number: 87199510004

Status: Unutilized

Reason: Secured Area

Bldg. 120

U.S. Coast Guard Base

San Juan PR 00902-2029

Landholding Agency: DOT

Property Number: 87199510005

Status: Unutilized

Reason: Secured Area

Bldg. 122

U.S. Coast Guard Base

San Juan PR 00902-2029

Landholding Agency: DOT

Property Number: 87199510006

Status: Unutilized

Reason: Secured Area

Bldg. 128

U.S. Coast Guard Base

San Juan PR 00902-2029

Landholding Agency: DOT

Property Number: 87199510007

Status: Unutilized

Reason: Secured Area

Bldg. 129

U.S. Coast Guard Base

San Juan PR 00902-2029

Landholding Agency: DOT

Property Number: 87199510008

Status: Unutilized

Reason: Secured Area

Rhode Island

Station Point Judith Pier

Narranganset Co: Washington RI 02882-

Landholding Agency: DOT

Property Number: 87199310002

Status: Unutilized

Reason: Extensive deterioration

Texas

Old Exchange Bldg.

Galveston Co: Galveston TX 77553-3001

Landholding Agency: DOT

Property Number: 87199310012

Status: Unutilized

Reason: Secured Area

WPB Building

Station Port Isabel

Coast Guard Station

South Padre Island Co: Cameron TX 78597-6497

Landholding Agency: DOT

Property Number: 87199530002

Status: Unutilized

Reason: Floodway

Aton Shops Building

USCG Station Sabine

Sabine Co: Jefferson TX 77655-

Landholding Agency: DOT

Property number: 87199530003

Status: Unutilized

Reasons: Within 2000 ft. of flammable or explosive material; Secured Area

WPB Storage Shed

USCG Station Sabine

Sabine Co: Jefferson TX 77655-

Landholding Agency: DOT

Property number: 87199530004

Status: Unutilized

Reasons: Within 2000 ft. of flammable or explosive material; Secured Area

Flammable Storage Building

USCG Station Sabine

Sabine Co: Jefferson TX 77655-

Landholding Agency: DOT

Property number: 87199530005

Status: Unutilized

Reasons: Within 2000 ft. of flammable or explosive material; Secured Area

Battery Storage Building

USCG Station Sabine

Sabine Co: Jefferson TX 77655-

Landholding Agency: DOT

Property number: 87199530006

Status: Unutilized

Reasons: Within 2000 ft. of flammable or explosive material; Secured Area

Boat House

USCG Station Sabine

Sabine Co: Jefferson TX 77655-

Landholding Agency: DOT

Property number: 87199530007

Status: Unutilized

Reasons: Within 2000 ft. of flammable or explosive material; Secured Area

Small Boat Pier

USCG Station Sabine

Sabine Co: Jefferson TX 77655-

Landholding Agency: DOT

Property number: 87199530008

Status: Unutilized

Reasons: Within 2000 ft. of flammable or explosive material; Secured Area

Bldg. 108

Fort Crockett/43rd St.

Housing

Galveston Co: Galveston TX 77553-

Landholding Agency: DOT

Property number: 87199630008

Status: Unutilized

Reason: Extensive deterioration

Vermont

Depot Street

Downtown at the Waterfront

Burlington Co: Chittenden VT 05401-5226

Landholding Agency: DOT

Property number: 87199220003

Status: Excess

Reason: Floodway

Virginia

Bldg. 052 & Tennis Court

USCG Reserve Training Center

Yorktown Co: York VA 23690-

Landholding Agency: DOT

Property number: 87199230004

Status: Excess

Reason: Secured Area

Admin. Bldg.

Coast Guard, Group Eastern

Shores

Chincoteague Co: Accomack VA 23361-510

Landholding Agency: DOT

Property Number: 87199120014

Status: Unutilized

Reason: Secured Area

Little Creek Station

Navamphib Base, West Annex,

U.S. Coast Guard

Norfolk Co: Princess Anne VA 23520-

Landholding Agency: DOT

Property Number: 87199310004

Status: Unutilized

Reason: Secured Area

Operations Bldg.

U.S. Coast Guard Group

Hampton Roads

Portsmouth VA 23703-

Landholding Agency: DOT

Property Number: 87199710003

Status: Unutilized

Reason: Secured Area

Bldgs. 63, 115

USCG Training Center

Yorktown Co: York VA 23690-5000

Landholding Agency: DOT

Property Number: 87200110037

Status: Unutilized

Reasons: Within 2000 ft. of flammable or explosive material; Secured Area; Extensive deterioration

Bldg. 156

USCG Training Center

Yorktown

Yorktown Co: York VA 23690-5000

Landholding Agency: DOT

Property Number: 87200120015

Status: Underutilized

Reasons: Within 2000 ft. of flammable or explosive material; Secured Area

Washington

Avionics Shop

Coast Guard Air Station

Port Angeles Co: Clallam WA 98362-

Landholding Agency: DOT

Property Number: 87200110023

Status: Unutilized

Reason: Secured Area

Storage Bldg.

Coast Guard Air Station

Port Angeles Co: Clallam WA 98362-

Landholding Agency: DOT

Property Number: 87200110024

Status: Underutilized

Reason: Secured Area

Maint. Work Shop

Coast Guard Air Station

Port Angeles Co: Clallam WA 98362-

Landholding Agency: DOT

Property Number: 87200110025

Status: Underutilized

Reason: Secured Area

Wisconsin

Rawley Point Light

Two Rivers Co: Manitowoc WI

Landholding Agency: DOT

Property Number: 87199540004

Status: Unutilized

Reasons: Secured Area; Extensive deterioration

Unsuitable Properties

LAND (by State)

Alaska

Russian Creek Aggregate Site

USCG Support Center Kodiak

Kodiak Co: Kodiak AK 99619-

Landholding Agency: DOT

Property Number: 87199440025

Status: Excess

Reason: Floodway.

Sargent Creek Aggregate Site

USCG Support Center Kodiak

Kodiak Co: Kodiak AK 99619-

Landholding Agency: DOT

Property Number: 87199440026

Status: Excess

Reason: Floodway.

Arizona

58 acres

VA Medical Center

500 Highway 89 North

Prescott Co: Yavapai AZ 86313-

Landholding Agency: VA

Property Number: 97190630001

Status: Unutilized

Reason: Floodway

20 acres

VA Medical Center

500 Highway 89 North

Prescott Co: Yavapai AZ 86313-

Landholding Agency: VA

Property Number: 9719063002

Status: Underutilized

Reason: Floodway

Florida

Land—approx. 220 acres

Cape San Blas

Port St. Joe Co: Gulf FL

Landholding Agency: DOT

Property Number: 87199440018

Status: Underutilized

Reason: Floodway; Secured Area

Wildlife Sanctuary, VAMC

10,000 Bay Pines Blvd.

Bay Pines Co: Pinellas FL 33504-

Landholding Agency: VA

Property Number: 97199230004

Status: Underutilized

Reason: Inaccessible

Michigan

Middle Marker Facility

Yipsilanti Co: Washtenaw MI 48198-

Location: 549 ft. north of intersection of Coolidge and Bradley Ave. on East side of street

Landholding Agency: DOT

Property Number: 87199120006

Status: Unutilized

Reason: Within airport runway clear zone

Minnesota

3.85 acres (Area #2)

VA Medical Center

4801 8th Street

St. Cloud Co: Stearns MN 56303-

Landholding Agency: VA

Property Number: 97199740004

Status: Unutilized

Reason: landlocked

7.48 acres (Area #1)

VA Medical Center

4801 8th Street

St. Cloud Co: Stearns MN 56303-

Landholding Agency: VA

Property Number: 97199740005

Status: Underutilized

Reason: Secured Area

New York

Track 1

VA Medical Center

Bath Co: Steuben NY 14820-

Location: Exit 38 off New York State Route 17

Landholding Agency: VA

Property Number: 97199010011

Status: Underutilized

Reason: Secured Area

Track 2

VA Medical Center

Bath Co: Steuben NY 14820-

Location: Exit 38 off New York State Route 17

Landholding Agency: VA

Property Number: 97199010012

Status: Underutilized

Reason: Secured Area

Track 3

VA Medical Center

Bath Co: Steuben NY 14820-

Location: Exit 38 off New York State Route 17

Landholding Agency: VA

Property Number: 97199010013

Status: Underutilized

Reason: Secured Area

Track 4

VA Medical Center

Bath Co: Steuben NY 14820-

Location: Exit 38 off New York State Route 17

Landholding Agency: VA

Property Number: 97199010014

Status: Underutilized

Reason: Secured Area

North Carolina

5 (0.91) Parcels

Marine Corps Base

Camp Lejeune Co: NC

Landholding Agency: Navy

Property Number: 77200210080

Status: Underutilized

Reason: Secured Area

3 (0.91) Parcels

Marine Corps Base

Greater Sandy Run

Camp Lejeune Co: NC

Landholding Agency: Navy

Property Number: 77200210081

Status: Underutilized

Reason: Within airport runway clear zone; Secured Area

[FR Doc. 02-5268 Filed 3-7-02; 8:45 am]

BILLING CODE 4210-29-M